DEPARTMENT OF TRANSPORTATION

Office of the Secretary

[Docket OST-2006-23898]

Application of Pacific Airways, Inc. for Certificate Authority

AGENCY: Department of Transportation.

ACTION: Notice of Order to Show Cause (Order 2006-10-10).

SUMMARY: The Department of Transportation is directing all interested persons to show cause why it should not issue an order finding Pacific Airways, Inc., fit, willing, and able, and awarding it a certificate of public convenience and necessity to engage in interstate scheduled air transportation of persons, property and mail.

DATES: Persons wishing to file objections should do so no later than November 2, 2006.

ADDRESSES: Objections and answers to objections should be filed in Docket OST-2006-23898, and addressed to U.S. Department of Transportation, Docket Operations (M-30, Room PL-401), 400 Seventh Street, SW., Washington, DC 20590, and should be served upon the parties listed in Attachment A to the order.

FOR FURTHER INFORMATION CONTACT: Ronâle Taylor, Air Carrier Fitness Division (X-56, Room 6401), U.S. Department of Transportation, 400 Seventh Street, SW., Washington, DC 20590, (202) 366-9721.

Dated: October 19, 2006.
Andrew B. Steinberg,
Assistant Secretary for Aviation and International Affairs.

[FR Doc. E6-17850 Filed 10-24-06; 8:45 am]

BILLING CODE 4910-62-P